DEPARTMENT OF THE INTERIOR

National Park Service

36 CFR Part 7

RIN 1024-AC90

Special Regulations; Areas of the National Park System

AGENCY: National Park Service, Interior.

ACTION: Proposed rule.

SUMMARY: The National Park Service has proposed this rule to designate areas where personal watercraft (PWC) may be used in Glen Canyon National Recreation Area, Utah and Arizona. This rule implements the provisions of the National Park Service (NPS) general regulations authorizing park areas to allow the use of PWC by promulgating a special regulation. The NPS Management Policies 2001 require individual parks to determine whether PWC use is appropriate for a specific park area based on an evaluation of that area's enabling legislation, resources and values, other visitor uses, overall management objectives, and consistent with the criteria of the NPS for managing visitor use.

DATES: Comments must be received by March 18, 2003.

ADDRESSES: Comments should be sent to, Glen Canyon National Recreation Area, PWC Rule-Making, Box 1507, Page, Arizona 86040. Email: glca_pwc@nps.gov. FAX: (928) 608-6259.

FOR FURTHER INFORMATION CONTACT: Kym Hall, Regulations Program Manager, National Park Service, 1849 C Street, NW, Room 7248, Washington, DC 20240. Phone: (202) 208-4206. Email: Kym_Hall@nps.gov. Fax: (202) 219-8835.

SUPPLEMENTARY INFORMATION:

Additional Alternatives

The information contained in this proposed rule supports implementation of the preferred alternative in the Draft Environmental Impact Statement for Personal Watercraft Rule-Making published September 13, 2002. The public should be aware that two other alternatives were presented in the Draft EIS, including a no-PWC alternative, and those alternatives should also be reviewed and considered when making comments on this proposed rule.

Purposes of the Recreation Area

National Park System units are established by Congress, and the enabling legislation usually identifies specific purposes for the unit. A unit's purpose, as established by Congress, is the foundation on which management decisions are based. The purpose and significance of Glen Canyon National Recreation Area and its broad mission goals are derived from its enabling legislation and are summarized in the national recreation area's General Management Plan (NPS 1979) and Strategic Plan (NPS 2000-2005).

Glen Canyon National Recreation Area was established in 1972 (Public Law 92-593) “to provide for public outdoor recreation use and enjoyment of Lake Powell and lands adjacent thereto * * * , and to preserve scenic, scientific, and historic features contributing to public enjoyment of the area (16 U.S.C. 460dd).” The recreation area's primary management objective, as established in the General Management Plan (NPS 1979), is “to manage the recreation area so that it provides maximal recreational enjoyment to the American public and their guests.”

The national recreation area's enabling legislation states “The Secretary shall administer, protect, and develop the recreation area in accordance with the provisions of [the Organic Act] * * * and with any other statutory authority available to him for the conservation and management of natural resources (16 U.S.C. 460dd-3). This act also specifies that “nothing * * * shall affect or interfere with the authority of the Secretary * * * to operate Glen Canyon dam and reservoir” for the purposes of the Colorado River Storage Project Act, administered by the Bureau of Reclamation.

As stated in the General Management Plan and Strategic Plan, Glen Canyon National Recreation Area is significant because it offers a tremendous diversity of both water-based and land-based recreational opportunities. It contains Lake Powell, the second largest man-made lake in North America, which provides both a unique opportunity for recreation in a natural environment and a transportation corridor to remote backcountry areas of Glen Canyon National Recreation Area. It is in the heart of the Colorado Plateau region, which offers a unique combination of water and desert environments. It offers a natural diversity of rugged water and wind carved canyons, buttes, mesas, and other outstanding physiographic features. The climate and physical features have created local environments favorable to the preservation of scientifically important objects, sites, populations, habitats, or communities that are significant in and of themselves or provide opportunities to add to our understanding of past or ongoing events. It possesses evidence of 10,000 years of human occupation and use of resources, which provides a continuing story of the prehistoric, historic, and present-day affiliation of humans and their environments. It constitutes a significant part of the outstanding public lands of the Colorado Plateau.

The recreation area offers a tremendous diversity of land and water-based recreational opportunities. The area's major recreational resource is Lake Powell, a 186-mile-long reservoir at full pool that was created when the Colorado River was dammed. Boating is very popular on the lake, including the use of PWC, houseboats, powerboats, fishing boats, tour boats, canoes, kayaks, and sailboats. Other popular activities include fishing, camping, water skiing, hiking, photography, and driving for pleasure.

Description of the Recreation Area

Glen Canyon National Recreation Area encompasses 1,254,306 acres of land and water in northern Arizona and southeastern Utah. Its southern boundary is contiguous with the Navajo Nation. Other boundaries adjoin Grand Canyon National Park, Capitol Reef National Park, Canyonlands National Park, and Rainbow Bridge National Monument, all managed by the National Park Service. The recreation area also adjoins areas administered by the Bureau of Land Management that include Grand Staircase—Escalante National Monument, Vermillion Cliffs National Monument, and Paria Canyon Wilderness. Lake Powell is the predominant physical feature and at full pool (3700 feet elevation), occupies about 163,000 surface acres, storing approximately 27 million acre feet of water, and providing about 1,960 miles of shoreline. More than 2 million people visit Glen Canyon National Recreation Area each year.

Motorized Watercraft

Motorboats and other motorized watercraft such as houseboats, ski boats, fishing boats, and powerboats have been used in Glen Canyon National Recreation Area since its establishment in 1972. PWC use has emerged at the recreation area with the introduction of this type of vessel in the 1980s. Prior to 2000, PWC use was allowed throughout Glen Canyon National Recreation Area except in the waters of the Colorado River between the Glen Canyon Dam and the downstream river boundary of Glen Canyon National Recreation Area where it adjoins Grand Canyon National Park near Lees Ferry. The waters of the recreation area above the dam where PWC use could occur, as identified in the superintendent's compendium, are within the scope of this proposed rule.

The 15-mile corridor of the Colorado River below Glen Canyon Dam was closed to PWC use in the superintendent's compendium for the protection of environmental values and the avoidance of conflict among traditional visitor use activities. This stretch of river is a nationally significant resource known for its scenery and “blue-ribbon” trout fishery. The historical recreational uses include fly-fishing and rafting trips. In March 2000, provisions of the National Park Service PWC rule closed the waters below the dam to PWC use. These waters continue to be an inappropriate area for PWC use and are not considered within the environmental impact statement (NPS, September 2002) or this proposed rule.

Glen Canyon National Recreation Area is located within the states of Arizona and Utah. Both states enforce their laws on Lake Powell within their respective state jurisdictions. The National Park Service manages these regulations in concert with the federal boating regulations that are addressed within Title 36 of the Code of Federal Regulations, and the United States Coast Guard Regulations pursuant to Title 36.

Resource Impact Topics

The following summarizes the predominant natural resources, cultural resources, and public use concerns and issues associated with PWC use at Glen Canyon National Recreation Area. Each of these issues is discussed in greater detail in the environmental impact statement.

Wildlife and Wildlife Habitat

Shoreline areas that typically are exposed to PWC uses provide limited habitats for the large, highly mobile mammals of the recreation area. Although areas are typically unvegetated and steep, shoreline areas may occasionally be briefly occupied by several species of mammals while searching for food or water or while moving through the area. These species include desert bighorn sheep, mule deer, antelope, feral horse, bobcat, mountain lion, gray fox, badger, kit fox, and coyote. However, they spend most of the time in adjacent upland areas and are not affected by motorized watercraft, including PWC.

Vegetation and corresponding habitat conditions are different in the tributaries and upper river reaches of the recreation area where water level fluctuations generally follow normal seasonal patterns. Such reaches provide riparian vegetation complexes that support different wildlife species assemblages than those encountered along main lake shorelines. Therefore, management actions should be consistent with protecting these resources.

Shore birds, waterfowl, and other water-associated bird species frequently use Lake Powell and its surrounding shoreline during migration for resting, security, and foraging purposes. Groups commonly observed on the lake and near shoreline areas include several species of grebes, cormorants, herons, egrets, coots, and ducks. Waterfowl, shorebirds, wading birds, and other water-associated bird species tend to concentrate in highest number and greatest diversity at Lake Powell in the late fall, winter, and the early spring months during peak migration periods. PWC use is minimal or not existent during this time of year; therefore, there is not a significant impact upon bird species associated with PWC operation.

The recreation area currently supports an assemblage of fish species that includes those adapted to either lake (lacustrine) or flowing-water (riverine) environments. Most of the lake-adapted species have been introduced intentionally or unintentionally by man through past fish-stocking programs or bait release. These species are more abundant because of the larger abundance of suitable aquatic habitat.

The flowing-water or riverine fish species tend to be native species that are restricted to the flowing portions of the main tributary streams and rivers that flow into the lake. These species are relatively less abundant and more restricted in distribution than the lake-associated fish species.

The creation of Lake Powell changed the riverine habitat formerly found on this stretch of the Colorado River to such an extent that native fish species have been virtually eliminated from the resulting lake environment. As a result of habitat modification and competition by introduced species, some native species are now classified as endangered or threatened.

The large seasonal and annual variations in water surface elevation resulting from reservoir operations and management impose substantial environmental constraints on the types of habitats that can develop and persist at near-shore locations. Wildlife species typically associated with the water fluctuation zone are highly adapted to using food, cover, and shelter conditions that may develop and disappear quickly. In many main lake locations, especially where the inundation frequency is high and prolonged, shoreline and near-shore areas consist primarily of unvegetated or sparsely vegetated rock, sand, cobbles, and boulders.

Wetlands and riparian areas are typically considered to be important wildlife concentration areas for several reasons. These include the availability of good foraging conditions resulting from the high degree of vegetation, water interfaces and interspersion (or edge), and structural diversity typically associated with vegetation conditions in such areas. General wildlife habitat values and uses generally increase as wetland and riparian area size increases. Because of the physical shoreline conditions and the operational characteristics of the reservoir, wetland sites are limited in number and small in size. Wetlands are typically associated with the upstream reaches of tributary or secondary side canyons where water levels fluctuate less.

Riparian areas are typically found along the shorelines of the four major rivers flowing into the reservoir. However, even in these locations, riparian corridors are generally scarce in number and small in size.

The perennial tributary rivers flowing into Lake Powell represent examples of the river systems and aquatic environments that existed prior to lake impoundment. These areas are of particular scientific and resource preservation values because of their general scarcity and because they preserve populations and community relationships of previous riverine ecosystem conditions. Relict native fish species still survive within the rivers in limited numbers. Major examples include reaches of the Colorado, San Juan, Escalante, and Dirty Devil Rivers. Therefore, management actions should be consistent with the protection of these wildlife habitats.

Threatened and Endangered Species

In accordance with threatened or endangered species consultation and coordination activities, the U.S. Fish and Wildlife Service identified 13 listed, 1 proposed, and 1 candidate species for portions of Coconino County, Arizona and Kane and San Juan Counties, Utah (U.S. Fish and Wildlife Service letter dated May 9, 2002). Of these species identified, Glen Canyon NRA resource specialists confirm that habitat for 12 federally listed endangered, threatened and candidate species may occur in the lake or near its shoreline. The area addressed for this resource characterization includes Lake Powell up to the 3700-foot water surface elevation, the shoreline zone, and uplands within 500 feet of Lake Powell's 3700-foot water surface elevation.

Razorback sucker (Xyrauchen texanus) is native to the Colorado River and once occupied the entire range of the river basin. San Juan, Dirty Devil and Colorado River inflow areas continue to produce some razorback suckers. Eleven adult razorbacks were caught at the San Juan Inflow (USGS et al. open file report). Adult razorback suckers are considered to be the products of native fish recovery programs conducted further upstream of Glen Canyon National Recreation Area. Fish tracking studies conducted in Lake Powell from 1995 to 1997 indicated this species primarily used vegetated habitats less than 1.5 feet deep in side canyons and backwaters covering sandy or cobble bottoms and open waters in upper portions of the river inlets. These areas represent less than 1 percent of the habitat in Lake Powell (Karp and Mueller, 2002).

Colorado pikeminnow (Ptychocheilus lucius) is a native migratory species of the Colorado River that once was present basin wide. It is no longer present in the lower basin and is considered rare in the upper basin. It is only found upstream of Glen Canyon Dam. Juvenile pikeminnow have been found in off-channel and backwater habitats adjacent to lower reaches of the river inflows into Lake Powell (UDWR, M. Gustaveson, pers. com. 2002). Some have been found in the San Juan River near Mexican Hat (National Park Service, 1986). The Colorado pikeminnow has not been reported captured in the lake since 1977. Limiting factors include loss of habitat.

Humpback chub (Gila cypha) is a native migratory species that was once more abundant throughout the Colorado River. The species has been found to exist near the confluence of the Colorado and Little Colorado Rivers within Grand Canyon National Park. The humpback chub has not been captured in Lake Powell since the early 1970s. It is assumed to no longer be present in the lake. Habitat preferences include river channels with deep fast-moving water and large boulders that are often conditions created in river channels bounded by steep cliffs. Adults typically live in eddy currents of whitewater canyons. Threats to this species include habitat modification and fluctuating water discharges that eliminate preferred conditions.

Bonytail (Gia elegans) is a native species that has a historic range that includes the Colorado River and its main tributaries. The bonytail is no longer present in the upper basin and is believed to be the most endangered of the four fish species. Prior to 1996 less than 10 bonytails were captured in Lake Powell. No individual fish have been observed during annual gill-net surveys in the last 20 years. Some populations may be present in Utah but their relative abundance is unknown. The species prefers pools and eddies of warm, often heavily silted, swift moving rivers.

Mexican Spotted Owl (Strix occidentalis lucidia) utilizes a variety of habitats including old growth forests, mixed conifer, Ponderosa pine, deciduous riparian, and steep canyons with rocky cliffs. Timber harvesting is the main threat to the Mexican spotted owl. Small populations roost in abandoned nests, tree cavities, or caves along canyon walls. Steep canyon habitats and drainages adjacent to Lake Powell and adjoining rivers may occasionally be utilized by this bird species. A juvenile was observed in Cataract Canyon several years ago but none have been sighted in Glen Canyon National Recreation Area since. There are no potential areas of concern located within the analysis area. Known occupied territories are located more than 4 miles from the Lake Powell shoreline (Glen Canyon NRA, Spence pers. com. 2002).

Southwestern Willow Flycatcher (Empidonax traillii extimus) is associated with low-elevation dense willow, cottonwood and saltcedar communities along streams and rivers. This species has been sighted about 30 miles from Lake Powell up the Escalante River and the San Juan River near Clay Hills Crossing but there is no confirmed nesting or breeding habitat present in the national recreation area. (Glen Canyon NRA, Henderson and Spence pers. com. 2002). In Arizona more than 110 pairs occupy 160 territories including breeding territory along the Colorado River. Smaller populations are known to exist in Utah. Breeding habitat is present along the Colorado River and some lake shorelines at low elevations in areas of dense willow, cottonwood and saltcedar or other woodlands along streams and rivers. Destruction and loss of native riparian habitat combined with natural predation and brown-headed cowbird parasitism have reduced species populations.

California Condor (Gymnogyps californianus) was reintroduced into the wild by the U.S. Fish and Wildlife Service in Arizona in 1996. There is some evidence that the condor was present in Utah at one time and its range may extend into Utah. These birds were released on the Vermilion Cliffs in Coconino County near Page, Arizona approximately 20 miles from the Utah border. Roosting habitat includes cliffs, tall evergreens and snags. Their population decline is thought to be related to ingestion of lead or cyanide poisoning of dead carcasses. Possible shootings, removal from wild of eggs, young, and adults for captive breeding, and unknown causes may also be a contributor. This species is known to forage for food more than 100 miles from their home territory. No breeding or nesting habitat is present in the recreation area, but individual birds may infrequently move across the area. A few individuals have been observed at Lake Powell within the last five years (Glen Canyon NRA, Spence pers. com. 2002).

Bald Eagle (Haliaeetus leucocephalus) habitat is present along the larger rivers in the southern part of Utah. The bald eagle winters in small numbers throughout the Lake Powell area and is observed in areas of the San Juan River and around Bullfrog (Glen Canyon National Recreation Area, 1986). Of the three nesting sites located in southeastern Utah, two nests are located along the Colorado River corridor. No nest sites have been observed or recorded along Lake Powell's shorelines. Potentially favorable bald eagle roosting sites along the rivers and shorelines of reservoirs such as Lake Powell are monitored for winter and breeding season uses (Spence et al 2002). There are no known consistently used winter roosting locations in the recreation area. Bald eagles have been observed feeding at Antelope Island and other portions of Lake Powell during the winter months (National Park Service 2002).

Western Yellow-billed Cuckoo (Coccyzus americanus) populations have declined throughout its range in the western states due to habitat loss. It is a candidate species currently under study by the U.S. Fish and Wildlife. Habitat for this neo-tropical species consists of cottonwood-willow riparian forests. Its presence and breeding habitat is well documented in Arizona. The bird has been sighted in Utah but its presence is not well documented. Western yellow-billed cuckoo have been observed on the Colorado River near Lees Ferry below the Glen Canyon Dam and at Clay Hills Crossing on the San Juan River. This bird species has not been observed at Lake Powell (Spence 2002).

American Peregrine Falcon (Falco peregrinus anatum) was removed from the federal list of endangered and threatened species on August 25, 1999 (64 Federal Register 46542). It is still listed as an Arizona special status species. The peregrine falcon nests on cliffs next to riparian and wetland habitats. It is occasionally observed on cliff faces in the recreation area. Foraging activity does occur within close proximity to the lake shoreline. Threats to this species include loss of habitat and environmental contaminants. There are over 80 known peregrine falcon nesting sites in the recreation area. These nest sites are located along cliffs at higher elevations on the canyon walls far above the water surface of the lake (Glen Canyon NRA, Spence pers. com.2002).

Navajo Sedge (Carex specuicola), grows in small pockets of sandy to silty moist soil in cool and shady seeps or spring alcoves in the San Juan River Canyon at elevations ranging from 4301 to 6004 feet. No designated critical habitat for the Navajo sedge is located in Glen Canyon National Recreation Area (Glen Canyon NRA, Henderson, pers. com., 2002).

Ute Ladies-tresses (Spiranthes diluvialis) is a small native orchid that is associated with wet meadows that may occur along streams, at spring or seep discharges and rarely along lakeshores at elevations ranging from about 4300 to 7000 feet. It typically flowers between late July through August, which is the best time to determine its presence. This species is threatened by loss of habitat, agriculture, fluctuating water levels and urban stream channelization. This species is known to occur in Garfield County, and other counties in Utah (FWS letter June 14, 2001) but it has not been observed or identified on the shoreline or riparian areas along either Lake Powell or any of the river corridors joining the lake (Glen Canyon NRA, Spence, pers. com. 2002).

Under current use conditions, there have been no documented incident reports of known conflicts of federally endangered fish or other species with watercraft or PWC users (Glen Canyon NRA, Spence, pers. com. 2002). Current motorized watercraft use of any type is not considered to affect any endangered fish species in Lake Powell (UDWR, M. Gustaveson, pers. com. 2002).

Shoreline Vegetation

More than 730 species of plants have been identified in the recreation area. Shoreline vegetation is considered to include several types of vegetation communities, including submerged aquatic beds, wetlands, riparian areas or zones, beach dunes, and upland vegetation that grows near the shoreline. The EIS defines the shoreline zone as areas within 500 horizontal feet from the lake's waterline at full pool. The area physically included in this zone will change as reservoir water levels change. The waterline can fluctuate as much as 50 feet vertically and 1,000 feet horizontally during a calendar year.

Areas of submerged aquatic vegetation are generally scarce and poorly developed at the recreation area. Reasons for this condition include unstable water levels associated with reservoir operations for water supply, power generation, and flood storage; poor plant rooting conditions along the lake's shorelines; very steep shoreline slopes; limited availability of low-gradient shorelines; and lack of suitable bottom conditions. Shoreline vegetation includes upland, beach dune, wetland, hanging-garden, and riparian locations near the land-water interface. Shoreline vegetation occurs along the main reservoir shoreline and along the tributary streams and rivers that flow into the reservoir. The same water fluctuation and difficult rooting conditions combined with the desert climate severely restrict development of shoreline and riparian vegetation. Consequently, most shorelines are bare rock, unvegetated sand, gravel, or cobbles.

PWC use has limited impact upon the recreation area shoreline vegetation. The areas where disturbance could occur should be considered and consistent within the protection of these resources.

Water Quality

During the summer of 2001, the Glen Canyon National Recreation Area conducted a water quality testing to determine the presence of hydrocarbons in Lake Powell. Samples were taken over a 4-day period from June 29th through July 2nd. This period was selected because it represents a high-use period by watercraft, including PWC.

The persistence of gasoline and oil in lake waters depends on the temperature of the water and the amount of mixing. Fuel components volatilize (evaporate) more quickly at warmer temperatures. High rates of mixing increase exposure to the air and accelerate volatilization. The greatest amount of boat use on Lake Powell generally occurs during the hot summer months. The lake's water temperature reaches up to 80 degrees Fahrenheit during the summer and high rates of mixing is proportional to the high rate of visitation on the lake. Therefore, gasoline volatilizes quickly on Lake Powell.

Emissions of gasoline and exhaust associated with PWC operation were compared to existing water quality conditions and to state water quality standards to determine their effects. The method used to evaluate the water quality used basic steps to determine the degree of impact a waterbody would experience based on the exceedence of water quality standards/toxicity benchmarks for PWC and outboard engine-related contaminants.

Analyses were performed by the State of Utah, The Woods Hole Group, Inc., and the U.S. Geologic Survey research laboratories. Samples were tested for benzene, toluene, ethyl benzene, and xylenes; five gasoline additives, including methyl tertiary butyl ether (MTBE), ethyl tertiary butyl ether (ETBE), tertiary amyl methyl ether (TAME), diisopropyl ether (DIPE), and tertiary butyl alcohol (TBA); and 24 polycyclic aromatic hydrocarbon (PAH) compounds. These test results are included within the environmental impact statement.

The maximum concentrations detected from the most heavily used test site, Bullfrog Marina, were below the treated drinking water standard or advisory level for all three compounds (benzene, benzo(a)pyrene, methyl teriary-butyl ether) for which a standard exists as determined by the U.S. Environmental Protection Agency. Based on this information the impacts associated with PWC on water quality were found to be not significant.

Based on the estimated Glen Canyon National Recreation Area boating hour statistics for 2001, PWC represented 17 percent of the total boating hours on Lake Powell. Of the PWC using Lake Powell; 87 percent were carbureted, 2-cycle engines, 6.5 percent were direct injection, 2-cycle engines, and 6.5 percent were 4-cycle engines.

The remaining 83 percent of boating hours on the lake for 2001 involved all other watercraft; house boats, powerboats, and fishing boats. Of the other vessels using Lake Powell, 78.6 percent were 4-cycle engines, 12.6 percent were carbureted, 2-cycle engines, 6.4 percent were fuel-injected 2-cycle engines, and 2.4 percent were diesel or sail powered vessels.

Of all the vessels using Lake Powell in 2001, 75 percent of the motorized vessels on Lake Powell were 4-cycle engines or fuel-injected, 2-cycle engines. It is estimated that these engines have emission rates that are 75 to 90 percent lower and thus emit about one-tenth the pollutants of carbureted, 2-cycle engines.

On October 4, 1996, the U.S. Environmental Protection Agency (EPA) issued a final rule to regulate emissions for new spark-ignition gasoline marine engines, including outboard engines, PWC engines, and jet boat engines. The rulemaking was conducted under Section 213 of the Clean Air Act. The EPA had determined that these engines contributed to ozone air pollution, and that the technology was available to manufacture cleaner operating engines. The rule stipulates that by the 2006 model year, the entire fleet of marine engines produced by each manufacturer, including those for PWC, must have a 75 percent reduction in hydrocarbon emissions compared to the average for the fleet produced by that manufacturer prior to the rule. It also established intermediate target dates for emission reductions.

In contrast to outboard engines that are used on boats, the average useful “life” of a 2-cycle PWC is 9 years (California Air Resources Board 1998b). As a result, by around 2015, most of the PWC used on Lake Powell will have low-emission engines. By 2005, the emissions from the fleet of watercraft using Lake Powell would be reduced by 25 percent compared to emissions in 1996; and in 2012, the emissions from the fleet of watercraft using the lake would be reduced by 50 percent compared to emissions in 1996. Therefore, water quality conditions associated with the use of PWC and other watercraft will improve, regardless of the management actions identified within this proposed rule.

Air Quality

Glen Canyon NRA is designated as a class II air quality area under the Prevention of Significant Deterioration provisions of the Clean Air Act and meets or exceeds all EPA standards for ambient air quality. The air quality of the Glen Canyon region is in attainment of the national ambient air quality standards. The sources of air pollutants come primarily from outside the park and can concentrate, especially during periods of atmospheric inversion, in the park, causing visible smog on occasion. There are sources of air pollutants that are generated within the park, including pollutants contained in the exhaust of motorized vessels. The combustion process of motorized vessels results in emissions of air pollutants such as volatile organic compounds (VOC), nitrogen oxides (NOX), particulate matter (PM), and carbon monoxide (CO) (EPA).

Although there is existing data showing that carbureted 2-cycle engines emit pollutants into the air, there is little data that shows specifically what impacts PWC emissions have on air quality. On Lake Powell, the current impacts from carbureted 2-cycle engines, including PWC, occur intermittently in high-use areas such as marinas, primarily between May and October. These impacts include visible smoke and the smell of exhaust and gasoline fumes. These impacts are considered moderate and have not been shown to exceed the national ambient air quality standards under the Clean Air Act or the EPA air quality index. The PWC industry reports that the highest volume selling models today are the cleaner-burning PWC (PWIA 2002, www.pwia.org); therefore, there is expected to be some beneficial impacts through 2012 as older models are replaced by the newer models. Once the proposed 2006 requirement is in place, air quality is expected to improve in the high use areas where carbureted two-cycle engines are currently heavily used. The EPA expects a 50% reduction in hydrocarbon emissions from marine engines from present levels by 2020, and a 75% reduction by 2025 (EPA 1996).

Soundscapes

Most visitors to Lake Powell have expectations of some noise from motorized vessels. Noise is generally considered appropriate if it is generated from activities consistent with park purposes and at levels consistent with those purposes. Engines are a primary source of human-caused sound at the recreation area. These include engines on PWC and other vessels, cars and trucks, off-road vehicles, aircraft, generators, and other miscellaneous sounds from electronic devices and humans. However, the opportunity to experience the natural soundscape is an important part of a positive park experience for some visitors. During the high use season, the sound of all boats can be continuous in the high use zones, marinas and main channel. Boat noise is noticeable in the Natural and Cultural zones during periods of high boating activity, but there are extended periods when boating noise is not noticeable.

Noise from watercraft operating in excess of the noise decibel requirements could negatively impact visitors. Noise abatement is regulated by the NPS within Glen Canyon NRA and other units of the National Park System (36 CFR, part 3.7). “Operating a vessel in or upon inland waters so as to exceed a noise level of 82 decibels measured at a distance of 82 feet (25 meters) from the vessel is prohibited.” The NPS is proposing to amend 36 CFR 3.7 to a different SAE testing standard in order to make enforcement of our existing decibel level easier.

Boating noise is also regulated by the States of Utah and Arizona. The respective states have developed standards relative to boat noise and these standards are enforced by state law enforcement officers on Lake Powell. Glen Canyon is working with the States of Arizona and Utah to address inconsistencies in boating laws, including noise regulations.

The nature of the noise generated from PWC may be more disturbing than other watercraft operating at similar decibels due to rapid changes in acceleration and direction typical of the operation of PWC. Although within the federal and state noise standards described previously, the changes in pitch can be annoying to some visitors. Where legislation allows for specific noise-making activities, such as motorized boating in parks, the soundscape management goal is to reduce the noise to the level consistent with the best technology available and consistent with park purposes and operations in order to mitigate the noise impact.

Manufacturers of PWC are aware of the concerns of the public related to the noise of their operation and have taken steps to reduce the noise by using more rubber in construction and eliminating vibrations. It is anticipated the PWC manufacturers will continue to reduce the noise associated with PWC. As the existing fleet is converted to the newer engine technology by the year 2012, it is expected noise will also be significantly reduced. Noise levels generated by watercraft on Lake Powell, including PWC, is consistent with park purposes and within the standards established by NPS. No additional restrictions are proposed.

Visitor Use, Conflicts, and Safety

Boat days were used as a basic unit of analyzing the intensity and impact of watercraft use upon Lake Powell. A ‘boating day’ equals one watercraft on the lake sometime during a 24-hour period. Total annual boating days on Lake Powell were estimated by multiplying the total number of boats estimated to enter the recreation area by the average length of time boats spend on the lake during a visit. The average amount of time each watercraft spent on the lake was estimated by a University of Minnesota 2000 visitor survey, in which watercraft users were asked how many nights they spent on the lake during their stay (Visitor Use at Glen Canyon National Recreation Area, Comparison of Personal Watercraft Users and Nonusers, James 1999-2001).

The total number of boats was estimated using boat rental, boat slip, and boat buoy data obtained from ARAMARK (the national recreation area concession operator), and from the recreation area's monthly entry and trailer counts gathered at the Wahweap, Lone Rock, Antelope Point, Bullfrog, Halls Crossing, and Hite launch areas.

Total annual Glen Canyon National Recreation Area watercraft use in 2001 was 823,148 boating days. This was the only year that all factors necessary for calculating boating days were recorded and available for analysis. There are several important characteristics of this use. PWC use accounted for 27 percent of the boating days estimated in 2001.

The visitor survey identified that, typically, many watercraft are used by a large group of friends or family, and groups often include more than one boat type. Generally one boat type in the group is the primary watercraft. The most common primary watercraft are powerboats. The second most common primary watercraft are houseboats.

It is common for houseboat and powerboat groups on Lake Powell to bring PWC on their trips. Of all groups traveling on Lake Powell with houseboats, 39 percent also included at least one PWC. Twenty-five percent of all powerboat groups included at least one PWC.

Half of all respondents to the summer survey stated that they operated a PWC during their visit. Visitors have and use multiple types of watercraft, including PWC, during a recreation trip, and PWC use is not restricted to a specific user or age group.

Watercraft use peaks in the months of June through September. About 79.5 percent of the total boating days in 2001 occurred during this peak use period. PWC use accounted for 30 percent of the boating days. Because PWC sales have actually decreased over the last several years, based on information provided by the Personal Watercraft Industry Association, the NPS has assumed that PWC use levels will likely remain constant over the next several years. Should PWC sales increase in the near future, use numbers could increase as well.

Over the course of the year, PWC use will vary in proportion to other watercraft. Watercraft use of the lake originates primarily from the four marinas with launch ramps at Wahweap, Bullfrog, Halls Crossing and Hite. From marinas, watercraft users distribute themselves on the lake to popular destinations. Some visitors remain in the vicinity of the marina. Because of the distribution of marinas with fueling stations along the length of the lake, houseboats and powerboats have access to and may travel to any point on the lake.

PWC use correlates with other watercraft use in remote areas of the lake because of the association of PWC with houseboat and powerboat groups. However, PWC operators were more likely to recreate in the Wahweap, Bullfrog, and Halls Crossing portal areas than other areas based on the fuel holding capacity of these vessels.

Boating use originates from outside of Glen Canyon on the San Juan and Colorado Rivers. The Bureau of Land Management issues permits for trips that originate typically from BLM's Sand Island Recreation Site (river mile 0) or Mexican Hat (river mile 27) on the San Juan River and terminate at Clay Hills Crossing (river mile 84) within Glen Canyon (personal communications, Berkenfield, BLM). Canyonlands National Park issues permits for trips that originate within Canyonlands on the Colorado River and terminate within Glen Canyon at Hite (personal communications, Henderson, NPS). PWC are prohibited within Canyonlands.

PWC users and other watercraft users come to Glen Canyon with motives for and expectations about their visit. These reflect the visitor's desired experiences and indicate the basis for a satisfactory visit.

Respondents to the University of Minnesota summer 2000 watercraft survey (James, 2001) described their motives for visiting the recreation area. Little difference exists between the desired experiences of PWC and other watercraft users. Among the most important were “to enjoy the scenery of Lake Powell,” “to do something with my family,” “to get away from the usual demands of life,” “to be with members of my group,” “to be with people who enjoy the same things I do,” and “to experience nature.”

Most desired experiences were reported by PWC and other watercraft users as being attained, indicating that, overall, visitors were very satisfied with their visit to Glen Canyon National Recreation Area. Among the experiences receiving only a moderate level of attainment were, “to experience solitude,” “to be away from other people,” and “to be on my own” indicating that overall use levels on the lake tends to be adequate for most visitors. There were no significant differences in experience attainment found between PWC operators and other watercraft operators.

Non-safety situations that were rated as most problematic included “litter on beaches and shoreline,” “people being inconsiderate,” “too many PWC on the lake,” “finding a beach campsite,” and “finding an unoccupied site.” The study noted that although these were the most problematic, the mean rating on a scale of 1 (No problem) to 5 (very serious problem) was 2.1 or lower (slight to no problem). There was no difference between PWC and other watercraft users in their perception of “conflicts with PWC operators on the lake.” The mean response was 1.7 (no problem to slight problem).

The relatively low perception of conflict with PWC was reflected in attitudes towards potential management actions. Respondents generally opposed management actions that would prohibit, limit, or zone watercraft uses. Respondents evaluated potential actions on a scale of 1 (strongly oppose) to 5 (strongly support) with a rating of 3 meaning neither support nor opposition. Both PWC and other vessel users expressed general opposition to “zoning the waters to provide specific uses at specific places,” “limit number of PWC allowed on the lake at one time,” and “prohibit PWC on the lake.” To manage conditions on the lake, watercraft users were generally supportive of actions that would “provide more information about appropriate behavior,” “aggressively enforce safety rules and regulations on the lake,” and “use management control to prevent damage to the environment by visitors.”

The overall conclusion was that the differences in perceptions of experience and conflict between PWC and other watercraft users were very small. There appears to be little conflict between groups and high satisfaction during the visit.

The number of overall boating accidents on the lake changed little from 1999 to 2001. There were 811 reported accidents over the three-year period from 1999-2001. Other vessels accounted for approximately 86 percent and PWC accounted for 14 percent of accidents respectively during this 3-year period. When PWC were involved in accidents there was a higher percentage involved in accidents with personal injury (14.7 percent; 3-year average) as compared to property damage only (4.5 percent-3-year average).

The results of the summer 2000 visitor survey addressed visitors' perceptions of safety and identification of safety problems. Overall, respondents did not experience many problematic situations during their visit.

Cultural Resources

The recreation area contains evidence of human occupation from over 10,000 years ago. Cultural resources within the recreation area include archeological resources, cultural landscapes, ethnographic resources and historic resources, including features listed on the National Register of Historic Places. No museum collections or National Historic Landmark properties exist within the project area or its general vicinity. PWC use was analyzed in terms of whether the use would impact the archeological resources, historic resources, cultural landscapes and ethnographic resources within 0.5 miles (horizontally) from the full pool line at 3700 feet above sea level. These categories of cultural resources are defined within the environmental impact statement, affected environment section.

Visitors access areas of the park in numerous different ways—they arrive in motor vehicles and airplanes, in boats of all types, by hiking, and by PWC. Given this diversity of modes of access, the impacts on archeological and historic cultural resources directly attributable to PWC users are very difficult to define. Most PWC users, like most recreation area visitors, are conscientious about protecting the cultural resources and do not engage in deliberate disturbance of the sites. Disturbance to sites occurs by the frequency of trampling, graffiti, vandalism, and illegal collection of objects. Access to side canyons to Lake Powell varies with lake levels. PWC may be able to access narrow, steep-walled canyons that are inaccessible to most visitors.

This proposed rule would, in effect, close the upper canyons of the Dirty Devil, Escalante, San Juan, and Colorado Rivers to use by all PWC. This action would make archeological sites, ethnographic sites, and cultural landscapes along approximately 113 miles of river less vulnerable to damage and vandalism and illegal collection. The rule will also include new flat wake zones along a total of about 17 miles of the Dirty Devil and Escalante Rivers. Restrictions on PWC use would provide long-term benefits for cultural resources in these areas. These benefits would be negligible to minor because impacts from other types of visitor use (hikers and other vessel use, etc.) would continue, and some isolated sites could be more vulnerable to damage due to the lack of contact with other visitors.

These restrictions on PWC use in selected canyon areas could help focus more of the PWC activity to developed areas containing fewer ethnographic resources. To help reduce impacts on cultural resources all across the recreation area, resources would continue to be monitored on a regular basis. Glen Canyon National Recreation Area staff would continue to educate visitors regarding archeological and ethnographic site etiquette to provide long-term protection for surface artifacts, architectural features, and traditional activities.

Authorizing PWC Use

Under the Preferred Alternative (Alternative B) of the “Draft Environmental Impact Statement” the National Park Service is issuing a proposed rule to specifically authorize the continued use of PWC in portions of Glen Canyon National Recreation Area.

This proposed rule will impose additional geographic restrictions on PWC use and define additional flat wake zones. It also includes management actions to enhance the protection of park resources, improve visitor safety, and reduce recreational use conflicts. The specific section descriptions are outlined as follows:

Section 7.70(g)(1) states that PWC may operate, transit and launch in park water or beach on park land except in the areas and conditions as described in the following subsections. Under the proposed rule, about 24 miles of the Colorado River upstream from Sheep Canyon would be closed to all PWC use. It would prohibit PWC use on the Dirty Devil River upstream from that point where measurable downstream current is encountered. (The exact location will change depending upon lake level). PWC would be prohibited on the Escalante River above the confluence of Coyote Creek and on the San Juan River upstream of the Clay Hills pullout. PWC would also be prohibited on the Colorado River between Glen Canyon Dam and the downstream river boundary of Glen Canyon NRA where it adjoins Grand Canyon National Park. All of these actions would increase the protection of environmental values and reduce conflict among visitor use activities.

Section 7.70(g)(1)(i) addresses the Colorado River between Glen Canyon Dam and the downstream river boundary of Glen Canyon NRA where it adjoins Grand Canyon National Park. The restriction pertaining to PWC use contained in the current Superintendent's Compendium (36 CFR, Sections 1.7(b) and 1.5), would be added to this proposed rule. The compendium prohibits PWC use between the Glen Canyon Dam and the downstream river boundary of Glen Canyon NRA where it adjoins Grand Canyon National Park. This closure went into effect in 1998 to eliminate possible conflicts between the traditional fishing and scenic float trips and conflicting PWC use.

Section 7.70(g)(1)(ii) addresses the Colorado River upstream of Sheep Canyon. The proposed rule would prohibit PWC use on the Colorado River upstream from Sheep Canyon. This action would have two benefits. Cataract Canyon upstream of Sheep Canyon is a popular white-water rafting destination that provides a recreational experience that is not available in other parts of Glen Canyon National Recreation Area. Closure of the Colorado River upstream from Sheep Canyon would preserve this locally unique visitor experience for Colorado River white-water river runners.

Because of the transition from lake to river conditions, PWC operation upstream from Sheep Canyon is substantially different than operation below this point. Beginning in Cataract Canyon, conditions become increasingly hazardous because of conflicts between traditional rafting uses and use of PWC. The river's uncertain currents and shifting sandbars can force both groups to use a common river channel. The presence of standing waves also produces a high potential for collision. Closing this area to PWC use would help protect the safety of visitors. Implementing these closures to all PWC use would strengthen the NPS' intent to maintain areas of quiet and solitude on portions of the rivers and to reduce the potential for conflict between motorized and non-motorized users. Closing the areas in both directions of travel would provide for consistency within the regulations. This limitation will be applied to all motorized vessels in the Superintendent's Compendium, except for permitted activities.

Section 7.70(g)(1)(iii) addresses the San Juan River upstream of Clay Hills pullout. The intent of the PWC closure on the San Juan River would be to provide an opportunity for visitors to enjoy quiet and solitude. Establishing the closure at the Clay Hills pullout would allow continued opportunity to access the lake from this remote site when the lake level is above an elevation of 3675 feet. At the same time, it would protect a rare visitor experience for San Juan River travelers upstream from this point. This limitation will be applied to all motorized vessels in the Superintendent's Compendium.

Section 7.70(g)(1)(iv) addresses the Escalante River upstream of Coyote Gulch. The proposed rule would prohibit PWC use on Escalante River upstream of Coyote Gulch. Implementing this closure to all PWC use would strengthen the NPS's intent to maintain areas of quiet and solitude on portions of the rivers and to reduce the potential for conflict between motorized and non-motorized users, thus enhancing the traditional river experience. This limitation will be applied to all motorized vessels in the Superintendent's Compendium.

Section 7.70(g)(1)(v) addresses the Dirty Devil River at the point where measurable downstream current is encountered. The operation of PWC upstream from where noticeable current is encountered is significantly different than operation below this point. The Dirty Devil Canyon is very narrow with tight, blind bends, and becomes increasingly hazardous upstream because of shallow and murky water, floating debris, uncertain currents, and shifting sandbars because of the transition from lake to river conditions.

Section 7.70(g)(2) has two subsections that outline additional wake restrictions. To further reduce visitor conflict, enhance visitor safety and experience, and protect soundscapes, the proposed rule would prohibit operation of PWC above flat wake speed on portions of the Dirty Devil and Escalante Rivers. PWC are required to comply with existing wake restrictions in the current Superintendent's Compendium (36 CFR Sections 1.7(b) and 3.6) that apply to all motorized vessels. These include requirements that watercraft operators cannot operate at speeds in excess of 5 miles per hour or create a wake when operating within harbors, mooring areas, flat wake areas, and other “no wake” buoyed areas.

When PWC operate at flat wake speeds many of the impacts they cause are greatly reduced. Visitor conflicts are virtually eliminated due to their reduced speed and noise. Although at flat wake speed, access may still be obtained by PWC users. Flat wake areas were considered to be prime access areas that all types of visitors seek out, but also areas within a river corridor that supports traditional rafting and river experiences.

Section 7.70(g)(2)(i) addresses the Escalante River from Cow Canyon to Coyote Gulch. The 4.4-river-mile stretch of the Escalante River between Cow Canyon and the confluence of Coyote Creek would be designated as flat wake for PWC. This stretch of the Escalante River is a popular float stream and hiking area. In most years, travel upstream by PWC from Cow Canyon is precluded by low water levels and insufficient stream flow. However, when lake levels are sufficiently high, the natural quiet of this area is often disturbed by noise from PWC. Limiting PWC use to flat wake speeds upstream from Cow Canyon would help maintain a more natural sound quality in this portion of the Escalante River and Coyote Gulch area. This limitation will be applied to all motorized vessels in the Superintendent's Compendium.

Section 7.70(g)(2)(ii) addresses the Dirty Devil River upstream from the Utah Highway 95 bridge until measurable downstream current is encountered. PWC would have to operate at flat wake speed on the Dirty Devil River upstream from Utah Highway 95 bridge to the point where measurable downstream flow is encountered. Flat wake speed requirements would help protect the safety of visitors. The Dirty Devil River is a popular destination for fishing, including both trolling and fishing from stationary boats. High-speed maneuvering with PWC is inconsistent and disruptive to this traditional visitor activity. Visitor conflicts would be reduced with flat wake speed of PWC. This limitation will be applied to all motorized vessels in the Superintendent's Compendium.

Section 7.70(g)(3) addresses the temporary limits and restrictions on PWC use within areas of the recreation area. The recreation area may consider other location restrictions, which would be implemented as part of the lake management plan that is discussed in the DEIS in the description of Alternative B. To support the decision to implement other restrictions, a 3-year pilot study would be conducted. The study would examine the effectiveness of location restrictions and other management actions in reducing visitor conflicts associated with motorized vessels, including PWC, in the recreation area.

History of Public Involvement

Public meetings were initiated in August 2001 to solicit early input into the scope and range of issues to be analyzed related to the management of PWC within Glen Canyon NRA. A notice of intent to prepare the Environmental Impact Statement was published in the Federal Register (66 FR 39789) on August 1, 2001. Scoping comments continued to be accepted and considered within the planning process. During this comment period, the NPS facilitated several hundred discussions and briefings to park staff, congressional delegations, elected officials, tribal representatives, public service organizations, educational institutions, and other interested members of the public.

Over 3500 letters and e-mail messages concerning PWC use on Lake Powell were received. A mailing list of interested parties was compiled from attendees at the meetings and from any written comments received at the recreation area.

During this first comment period, Glen Canyon NRA received 503 individual written letters of concern, 270 petition form letters originating from the American Watercraft Association requesting that PWC be regulated just as any other type of watercraft and access should not be denied, 325 petition postcards originating from the American Watercraft Association requesting that Glen Canyon NRA adopt reasonable regulations to support continued access by all boaters versus implementing discriminatory regulations, and 523 e-mail letters. Lake Powell Magazine obtained 533 signatures from boating shows supporting continued rights for PWC use on Lake Powell. Glen Canyon NRA received over 1100 electronic form letters: 152 titled ‘Jet Skis at Glen Canyon!' supporting the elimination of PWC, 926 titled ‘End Jet Ski Pollution at Glen Canyon’ supporting the elimination of PWC on Lake Powell and 109 titled ‘Free Glen Canyon National Recreation Area of Jet Skis’ also supporting PWC elimination. During the public workshops, 146 written comments regarding issues, concerns, and alternatives for management were received. These comments ranged from the support of the continued use of PWC throughout the recreation area (over 80%), to a total ban on PWC use, to restrictions in selected areas of the recreation area. Issues generated during the comment period included visitor safety concerns related to illegal and reckless operation of PWC, conflicts among different user groups, educational requirements for all boaters, potential resource impacts, and questions concerning the impacts of PWC use related to other motorized vessels.

The Glen Canyon NRA “Draft Environmental Impact Statement” was made available for public review on September 13, 2002 (67 FR 58071). The document is available in hard copy, on computer disk, and on the park's Web site at http://www.nps.gov/glca/plan.htm. Public meetings were held with the release of the Draft Environmental Impact Statement. These meetings were held at various locations to discuss the components of the document and solicit public response related to all aspects of the statement. Public comments on the statement were accepted for 60 days from the Notice of Availability published in the Federal Register.

Compliance with Other Laws

Regulatory Planning and Review (Executive Order 12866)

This document is a significant rule and has been reviewed by the Office of Management and Budget under Executive Order 12866.

(1) This rule will not have an effect of $100 million or more on the economy. It will not adversely affect in a material way the economy, productivity, competition, jobs, the environment, public health or safety, or State, local, or tribal governments or communities. This determination is based upon the findings in a report prepared by the National Park Service entitled “Economic Analyses of Personal Watercraft Regulations in Glen Canyon National Recreation Area” (Law Engineering and Environmental Services, Inc. 2002). The focus of this study was to document the potential impact of the alternatives listed within the environmental impact statement on a variety of small entities including PWC dealerships and repair shops, PWC rental business, and other local businesses that provide services to PWC users.

This rule would continue PWC use with restrictions in some narrow canyon areas and other management restrictions. Some localized ecosystem protection and noise reductions benefits are anticipated. However, because the vast majority of Lake Powell, including the most popular areas for PWC use, will remain open to PWCs under this rule, the NPS anticipates no significant effects on the visiting public or local businesses.

Should this proposed rule not be instituted, PWC use would be completely banned under this alternative, affecting the approximately 40 percent of visitors that use PWCs. The estimated reduction in producer surplus (a measure closely related to business profit) in the local community would be between $505,000 and $3,076,100 annually. The economic effect on the visiting public was not quantified due to limited data availability; however, the 40 percent of visitors that currently use PWCs would lose all the value they receive from PWC use. Beneficiaries of this rule would include the remaining portion of visitors that do not use PWCs. Additionally, “nonusers” may significantly benefit from knowing that resources in the National Recreation Area will be better protected into the future.

Over a ten-year horizon, an annual reduction in producer surplus of $505,000 has a present value of $4.3 million when discounted at 3 percent per year. A 3 percent discount rate is widely recognized in the economics literature and Federal rulemakings as an appropriate discount rate for valuing natural amenities and other non-market resources and services. When discounted at 7 percent per year (OMB Circular A-94), the present value of a $505,000 annual reduction in producer surplus over ten years is $3.5 million. The present value of an annual loss of $3,076,100 in producer is $26.2 million when discounted at 3 percent per year, or $21.6 million when discounted at 7 percent per year.

This analysis clearly indicates that this proposed rule is expected to avoid significant losses to local business. However, the net effect of this rule on the visiting public and nonusers has not been quantitatively determined. This rule would yield a positive net benefit if the benefits of not implementing this rule did not exceed the avoided business losses of implementing this rule.

(2) This rule will not create a serious inconsistency or otherwise interfere with an action taken or planned by another agency. Actions taken under this rule will not interfere with other agencies or local government plans, policies, or controls. This is an agency specific rule.

(3) This rule does not alter the budgetary effects of entitlements, grants, user fees, or loan programs or the rights or obligations of their recipients. This rule will have no effects on entitlements, grants, user fees, or loan programs or the rights or obligations of their recipients. No grants or other forms of monetary supplements are involved.

(4) This rule raises novel legal or policy issues. This rule is among the first of its kind for managing PWC use in National Park Units. The National Park Service published general regulations (36 CFR 3.24) in March 2000, requiring individual park areas to adopt special regulations to authorize PWC use. The implementation of the requirements of the general regulation continues to generate interest and discussion from the public concerning the overall effect of authorizing PWC use and National Park Service policy and park management.

Regulatory Flexibility Act

The Department of the Interior certifies that this document will not have a significant economic effect on a substantial number of small entities under the Regulatory Flexibility Act (5 U.S.C. 601 et seq.). Based on a report entitled Economic Analysis of Personal Watercraft Regulations in Glen Canyon National Recreation Area (Law Engineering and Environmental Services, Inc. 2002). The focus of this study was to document the impact of this rule on two types of small entities, PWC dealerships and PWC rental outlets. This report found that there was no potential loss for these types of businesses as a result of this rule since PWC use would remain substantially the same as it has been over the last several years.

Small Business Regulatory Enforcement Fairness Act (SBREFA)

This rule is not a major rule under 5 U.S.C. 804(2), the Small Business Regulatory Enforcement Fairness Act. The National Park Service has completed an economic analysis to make this determination. This rule:

a. Does not have an annual effect on the economy of $100 million or more.

b. Will not cause a major increase in costs or prices for consumers, individual industries, Federal, State, or local government agencies, or geographic regions.

c. Does not have a significant adverse effect on competition, employment, investment, productivity, innovation, or the ability of U.S.-based enterprises to compete with foreign-based enterprises.

Unfunded Mandates Reform Act

This rule does not impose an unfunded mandate on State, local, or tribal governments or the private sector of more than $100 million per year. The rule does not have a significant or unique effect on State, local or tribal governments or the private sector.This rule is an agency specific rule and imposes no other requirements on other agencies, governments, or the private sector.

Takings (Executive Order 12630)

In accordance with Executive Order 12630, the rule does not have significant takings implications. A taking implication assessment is not required. No taking of personal property will occur as a result of this rule.

Federalism (Executive Order 13132)

In accordance with Executive Order 13132, the rule does not have sufficient federalism implications to warrant the preparation of a Federalism Assessment. This proposed rule only affects use of NPS administered lands and waters. It has no outside effects on other areas by allowing PWC use in specific areas of the park.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

The National Park Service has analyzed this rule in accordance with the criteria of the National Environmental Policy Act and has prepared a Draft Environmental Impact Statement (EIS). The draft EIS was made available for public review and comment on September 13, 2002 (67 FR 58071). A copy of the Draft EIS is available by contacting the Superintendent, Glen Canyon National Recreation Area, or by downloading the document at http://www.nps.gov/glca/plan.htm.

Government-to-Government Relationship With Tribes

In accordance with the President's memorandum of April 29, 1994, “Government to Government Relations with Native American Tribal Governments” (59 FR 22951) and 512 DM 2: We have evaluated potential effects on federally recognized Indian tribes and have determined that there are no potential effects.

During May 2002, the NPS consulted with tribes in the surrounding area in writing and/or in person about the development of this proposed rule and the supporting Environmental Impact Statement. Those tribes include the Hopi, Navajo, San Juan Southern Paiute, and Kaibab Paiute Tribes as well as several tribal historic preservation programs and cultural and natural resources divisions of the tribes. None of the tribes have expressed concern or dissent with the planning process or development of the alternatives for the EIS or this proposed rule. The tribes will continue to be consulted as the rulemaking process continues.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§” and a numbered heading; for example § 7.70 Glen Canyon National Recreation Area). (5) Is the description of the rule in the “Supplementary Information” section of the preamble helpful in understanding the proposed rule? What else could we do to make the rule easier to understand?

Send a copy of any comments that concern how we could make this rule easier to understand to: Office of Regulatory Affairs, Department of the Interior, Room 7229, 1849 C Street, NW., Washington, DC 20240. You may also email the comments to this address: Exsec@ios.doi.gov.

Drafting Information: The primary authors of this regulation were Suzy Schulman, Environmental Specialist, and Brian Wright, Outdoor Recreation Planner, Glen Canyon National Recreation Area.

Public Participation: If you wish to comment, you may submit your comments by any one of several methods. You may mail written comments to: Glen Canyon National Recreation Area, PWC Rule-Making, Box 1507, Page, Arizona 86040. Fax: (928) 608-6259. You may also comment via the Internet to glca_pwc@nps.gov. Please also include “PWC Rule” in the subject line and your name and return address in the body of your Internet message. Finally, you may hand deliver comments to the Glen Canyon NRA Headquarters Building Receptionist at 691 Scenic View Drive, Page, Arizona. Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials or organizations or businesses, available for public inspection in their entirety.

List of Subjects in 36 CFR Part 7

District of Columbia, National Parks, Reporting and recordkeeping requirements.

In consideration of the foregoing, the National Park Service proposes to amend 36 CFR Part 7 as follows:

PART 7—SPECIAL REGULATIONS, AREAS OF THE NATIONAL PARK SYSTEM

1. The authority citation for Part 7 continues to read as follows:

Authority: 16 U.S.C. 1, 3, 9a, 460(q), 462(k); Sec. 7.96 also issued under D.C. Code 8-137(1981) and D.C. Code 40-721 (1981).

2. Section 7.70 is amended by adding paragraph (g) to read as follows:

§ 7.70 Glen Canyon National Recreation Area.

* * * * *

(g) Personal watercraft (1) Personal watercraft may operate, transit and launch in park water or beach on park land except in the areas and under the conditions described as follows:

(i) On the Colorado River between Glen Canyon Dam and the downstream river boundary of Glen Canyon NRA where it adjoins Grand Canyon National Park.

(ii) On the Colorado River upstream of Sheep Canyon.

(iii) On the San Juan River upstream of Clay Hills Pullout.

(iv) On the Escalante River upstream of Coyote Gulch.

(v) On the Dirty Devil River at the point where measurable downstream current is encountered.

(2) Personal Watercraft must travel at flat wake speed:

(i) On the Escalante River from Cow Canyon to Coyote Gulch.

(ii) On the Dirty Devil River upstream of the Utah Highway 95 bridge until measurable downstream current is encountered.

(3) The Superintendent may temporarily limit, restrict or terminate access to the areas designated for PWC use after taking into consideration public health and safety, natural and cultural resource protection, and other management activities and objectives.

Dated: January 10, 2003.
Craig Manson,
Assistant Secretary for Fish and Wildlife and Parks.

[FR Doc. 03-1157 Filed 1-16-03; 8:45 am]

BILLING CODE 4310-70-P